DEPARTMENT OF THE INTERIOR

Bureau of Land Management

[CO-200-1020-AC-241A]

Notice of Meeting, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held on August 12 and 13, 2003. On August 12 the meeting will be held at the VFW Hall, 933 Sells Avenue, Canon City, Colorado from 7 p.m. to 9 p.m. The meeting will reconvene on August 13 at the Holy Cross Abbey Community Center, 2951 E. Highway 50, Canon City, Colorado from 9:15 a.m. to 4 p.m.

SUPPLEMENTARY INFORMATION: The 15 member Council advises the Secretary of the Interior, through the Bureau of Land Management, on a variety of planning and management issues associated with public land management in the Front Range Center, Colorado. Planned agenda topics include:

On August 12, 2003 the public is encouraged to provide comments on the preliminary draft Sustaining Working Landscapes Initiative.

On August 13, 2003 the Council will discuss the preliminary draft Sustaining Working Landscapes Initiative with the purpose of providing advice to the BLM Colorado State Director. All meetings are open to the public. The public is encouraged to make oral comments to the Council between 7 p.m. and 9 p.m. August 12 or written statements may be submitted for the Councils consideration. Depending on the number of persons wishing to comment and time available, the time for individual oral comments may be limited. Summary minutes for the Council Meeting will be maintained in the Front Range Center Office and will be available for public inspection and reproduction during regular business hours within thirty (30) days following the meeting.

FOR FURTHER INFORMATION CONTACT: Bureau of Land Management (BLM), Attn: Ken Smith, 3170 East Main Street, Canon City, Colorado 81212. Phone (719) 269-8500.

Dated: July 8, 2003.
John L. Carochi,
Acting Front Range Center Manager.

[FR Doc. 03-17814 Filed 7-14-03; 8:45 am]

BILLING CODE 4310-JB-P